DEPARTMENT OF ENERGY

Federal Energy Regulatory Commission

[Docket No. IC09-567-000, FERC-567]

Commission Information Collection Activities, Proposed Collection; Comment Request; Extension

November 28, 2008.

AGENCY: Federal Energy Regulatory Commission.

ACTION: Notice of proposed information collection and request for comments.

SUMMARY: In compliance with the requirements of section 3506(c)(2)(a) of the Paperwork Reduction Act of 1995 (Pub. L. 104-13), the Federal Energy Regulatory Commission (Commission) is soliciting public comment on the specific aspects of the information collection described below.

DATES: Comments in consideration of the collection of information are due January 30, 2009.

ADDRESSES: An example of this collection of information may be obtained from the Commission's Web site (at http://www.ferc.gov/docs-filing/elibrary.asp). Comments may be filed either electronically or in paper format, and should refer to Docket No. IC09-567-000. Documents must be prepared in an acceptable filing format and in compliance with the Federal Energy Regulatory Commission submission guidelines at http://www.ferc.gov/help/submission-guide.asp.

Comments may be filed electronically via the eFiling link on the Commission's Web site at www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

Users interested in receiving automatic notification of activity in this docket may do so through eSubscription (at http://www.ferc.gov/docs-filing/esubscription.asp). In addition, all comments and FERC issuances may be viewed, printed or downloaded remotely through FERC's Web site using the “eLibrary” link and searching on Docket Number IC09-567. For user assistance, contact FERC Online Support (e-mail at ferconlinesupport@ferc.gov, or call toll-free at (866) 208-3676, or for TTY, contact (202) 502-8659).

FOR FURTHER INFORMATION CONTACT: Michael Miller may be reached by telephone at (202) 502-8415, by fax at (202) 273-0873, and by e-mail at michael.miller@ferc.gov.

SUPPLEMENTARY INFORMATION: The FERC is requesting comments on the FERC-567, Gas Pipeline Certificates: Annual Reports of System Flow Diagrams and System Capacity. FERC-567 is an existing data collection, (OMB Control No. 1902-0005), consisting of a set of filing requirements, as contained in 18 CFR Parts 260.8 and 284.13.

The information from the FERC-567 is used by the Commission staff to obtain accurate data on pipeline facilities and the peak capacity of these facilities and to validate the need for new facilities proposed by pipelines in certificate applications. In modeling a pipeline applicant's system, Commission staff utilizes the FERC-567 data to determine configuration and location of installed pipeline facilities; verify and determine the receipt and delivery points between shippers, producers and pipeline companies; determine the location of receipt and delivery points and emergency interconnections on a pipeline system; determine the location of pipeline segments, laterals and compressor stations on a pipeline system; verify pipeline segment lengths and pipeline diameters; justify the maximum allowable operating pressures and suction and discharge pressures at compressor stations; verify the installed horsepower and volumes compressed at each compressor station; determine the existing shippers and producers currently using each pipeline company; verify peak capacity on the system; and develop and evaluate alternatives to the proposed facilities as a means to mitigate environmental impact of new pipeline construction.

18 CFR 260.8 requires each major natural gas pipeline with a system delivery capacity exceeding 100,000 Mcf per day to file, to submit by June 1 of each year, diagrams reflecting operating conditions on the pipeline's main transmission system during the previous 12 months ended December 31. Section 284.13 of 18 CFR requires each interstate pipeline that provides transportation subject to the provisions of Subparts B and G of Part 284 to make an annual filing by March 1 of each year showing the estimated peak day capacity of the pipeline's system. These data are physical/engineering data which are not included as part of any other data collection requirement.

Action: The Commission is requesting a three-year extension of the current expiration date, with no changes to the existing reporting requirements.

Burden Statement: Public reporting burden for this collection is estimated as:

FERC data collection | Number of respondents annually | Number of responses per respondent | Average burden hours per response | Total annual burden hours
| (1) | (2) | (3) | (1) × (2) × (3)
FERC-567 | 100 | 1.714 | 81.28 | 13,931.39

For the FERC-567, the estimated cost burden to respondents is $846,492.80 (13,931.39 hours/2080 hours per year times $126,384 per year average per employee = $846,492.80). The estimated cost per respondent is $8,464.93.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E8-28773 Filed 12-4-08; 8:45 am]

BILLING CODE 6717-01-P